INTERNATIONAL TRADE COMMISSION

[USITC SE-13-036]

Sunshine Act Meeting Notice; Change of Time of Sunshine Act Meeting

AGENCY HOLDING THE MEETING: United States International Trade Commission.

DATE: December 13, 2013.

NEW TIME: 9:30 a.m.

PLACE: Room 101, 500 E Street SW., Washington, DC 20436, Telephone: (202) 205-2000.

STATUS: Open to the public.

In accordance with 19 CFR § 201.35(d)(1), the Commission hereby gives notice that the meeting of December 13, 2013 will be held at 9:30 a.m.

In accordance with Commission policy, subject matter listed above, not disposed of at the scheduled meeting, may be carried over to the agenda of the following meeting. Earlier notification of this change was not possible.

By order of the Commission.
Issued: December 11, 2013.
William R. Bishop,
Supervisory Hearings and Information Officer.

[FR Doc. 2013-29906 Filed 12-12-13; 11:15 am]

BILLING CODE 7020-02-P